DEPARTMENT OF TRANSPORTATION

Federal Highway Administration

[Docket No. FHWA-2010-0033]

Agency Information Collection Activities: Notice of Request for Extension of Currently Approved Information Collection

AGENCY: Federal Highway Administration (FHWA), DOT.

ACTION: Notice of request for approval for a new information collection.

SUMMARY: The FHWA has forwarded the information collection request described in this notice to the Office of Management and Budget (OMB) to renew an information collection. We published a Federal Register Notice with a 60-day public comment period on this information collection on September 18, 2009. We are required to publish this notice in the Federal Register by the Paperwork Reduction Act of 1995.

DATES: Please submit comments by May 21, 2010.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2010-0033.

FOR FURTHER INFORMATION CONTACT: Marshall Wainright, 202-366-4842, or Arnold Feldman, 202-366-2028, Office of Real Estate Services, U.S. Department of Transportation, Federal Highway Administration, 1200 New Jersey Avenue, SE., Washington, DC 20590.

SUPPLEMENTARY INFORMATION:

Title: 2009 Business Relocation Assistance Retrospective Study.

Background: Among benefits included in relocation assistance under the Uniform Act is a payment, not to exceed $10,000, to assist displaced businesses in reestablishing at a new location. The Uniform Act also includes a fixed payment for moving expenses not to exceed $20,000 in lieu of the payments for actual reasonable moving and reestablishment related expenses. The Uniform Act benefit levels were last revised in 1989. Since that time, displaced business moves have become increasingly complex and costly. HEPR, the Government Accountability Office (GAO) and several States have done recent research into the costs born by businesses that are required to relocate as a result of federally funded projects and programs. The general conclusion is that the Uniform Act benefit levels are inadequate. For example the GAO recently reported on the need for an update of benefit levels in Eminent Domain, Information about its Uses and Effect on Communities and Property Owners Is Limited (GAO-07-28). The report communicates in several points, including discussions on pages 4 and 16, that Uniform Act benefits available to business are considered inadequate by interviewees.

The data collected utilizing the following interview document would identify the name, location and type of business; actual costs that a business incurs which would be reimbursable if not for the statutory maximum reestablishment expenses or the additional in-lieu eligibility that a business would be eligible to receive as well as the amount of the relocation assistance the business received as a reimbursement through the relocation program.

Interviews with selected participants will be conducted over a one-year period.

Respondents: Approximately 300 participants to be interviewed in one year.

Frequency: One collection from each participant.

Estimated Average Burden per Response: Approximately 4 hours per participant over a year.

Estimated Total Annual Burden Hours: Approximately 1200 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: April 16, 2010.
Juli Huynh,
Chief, Management Programs and Analysis Division.

[FR Doc. 2010-9106 Filed 4-20-10; 8:45 am]

BILLING CODE P